DEPARTMENT OF ENERGY

Electricity Advisory Committee

AGENCY: Office of Electricity, Department of Energy.

ACTION: Notice of open meeting.

SUMMARY: This notice announces a meeting of the Electricity Advisory Committee. The Federal Advisory Committee Act requires that public notice of these meetings be announced in the Federal Register.

DATES:

Thursday, May 28, 2020; 11:45 a.m.-5:00 p.m. EDT

Friday, May 29, 2020; 11:45 a.m.-5:00 p.m. EDT

ADDRESSES: Due to ongoing precautionary measures surrounding the spread of COVID-19, the May meeting of the EAC will be held via WebEx video and teleconference. In order to track all participants, the Department is requiring that those wishing to attend register for the meeting here: https://www.energy.gov/oe/may-28-29-2020-meeting-electricity-advisory-committee. Please note, you must register for each day you would like to attend.

FOR FURTHER INFORMATION CONTACT: Mr. Christopher Lawrence, Designated Federal Officer, Office of Electricity, U.S. Department of Energy, Washington, DC 20585; Telephone: (202) 586-5260 or Email: Christopher.lawrence@hq.doe.gov.

SUPPLEMENTARY INFORMATION:

Purpose of the Committee: The Electricity Advisory Committee (EAC) was established in accordance with the provisions of the Federal Advisory Committee Act (FACA), to provide advice to the U.S. Department of Energy (DOE) in implementing the Energy Policy Act of 2005, executing certain sections of the Energy Independence and Security Act of 2007, and modernizing the nation's electricity delivery infrastructure. The EAC is composed of individuals of diverse backgrounds selected for their technical expertise and experience, established records of distinguished professional service, and their knowledge of issues that pertain to the electric sector.

Tentative Agenda

May 28, 2020

11:45 a.m.-12:00 p.m. WebEx Attendee Sign-On

12:00 p.m.-12:20 p.m. Welcome, Introductions, Developments since the June 2019 Meeting

1:20 p.m.-1:40 p.m. Update on Office of Electricity Programs and Initiatives

1:40 p.m.-2:20 p.m. Electric Industry Experience with Long Term Energy Storage and Power-to-Gas Storage

2:10 p.m.-2:50 p.m. Department of Energy R&D Strategy Related to Power-to-Gas Research and Development

2:50 p.m.-3:00 p.m. Break

3:00 p.m.-4:30 p.m. Moderated Roundtable Discussion Between DOE and EAC Regarding Power-to-Gas Research and Development

4:30 p.m.-4:50 p.m. Energy Storage Subcommittee Report and Vote on 2020 Biennial Storage Assessment Work Product

4:50 p.m.-5:00 p.m. Wrap-up and Adjourn Day 1

May 29, 2020

11:45 a.m.-12:00 p.m. WebEx Attendee Sign-On

12:00 p.m.—12:10 p.m. Welcome

12:10 p.m.-12:40 p.m. Update on the North American Energy Resilience Model (NAERM)

12:40 p.m.-2:00 p.m. DOE Activities Related to Grid Modernization and Planning

2:00 p.m.-2:15 p.m. Break

2:15 p.m.-4:00 p.m. Moderated Roundtable Discussion Between DOE and EAC Regarding Grid Modernization and Planning Activities

4:00 p.m.-4:20 p.m. Smart Grid Subcommittee Report

4:20 p.m.-4:35 p.m. Public Comments

4:35 p.m.-5:00 p.m. Wrap-up and Adjourn

The meeting agenda may change to accommodate EAC business. For EAC agenda updates, see the EAC website at: http://energy.gov/oe/services/electricity-advisory-committee-eac.

Public Participation: The EAC welcomes the attendance of the public at its meetings, no advanced registration is required. Individuals who wish to offer public comments at the EAC meeting may do so on Friday, May 29, but must register in advance by contacting Mr. Christopher Lawrence using the contact information above. Approximately 15 minutes will be reserved for public comments. Time allotted per speaker will depend on the number who wish to speak but is not expected to exceed three minutes. Anyone who is not able to attend the meeting, or for whom the allotted public comments time is insufficient to address pertinent issues with the EAC, is invited to send a written statement via email identified by “Electricity Advisory Committee May 2020 Meeting,” to Mr. Christopher Lawrence.

Minutes: The minutes of the EAC meeting will be posted on the EAC web page at http://energy.gov/oe/services/electricity-advisory-committee-eac. They can also be obtained by contacting Mr. Christopher Lawrence at the address above.

Signed in Washington, DC on April 22, 2020.
LaTanya R. Butler,
Deputy Committee Management Officer.

[FR Doc. 2020-08965 Filed 4-27-20; 8:45 am]

BILLING CODE 6450-01-P